FEDERAL EMERGENCY MANAGEMENT AGENCY

44 CFR Part 65

[Docket No. FEMA-P-7606]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Acting Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Hazard Mapping and Risk Assessment Division, FEMA, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR Part 10, Environmental Consideration. No environmental impact assessment has been prepared.

Regulatory Flexibility Act

The Acting Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform.

This rule meets the applicable standards of Section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq. Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas: Pope | City of Russellville | August 21, 2001, August 28, 2001, The Courier | The Honorable Raye Turner, Mayor, City of Russellville, P. O. Box 428, Russellville, Arkansas 72801 | July 30, 2001 | 050178
Illinois:
Lake | Village of Lake Zurich | August 16, 2001, August 23, 2001, Lake Zurich Courier | The Honorable James Krischke, Mayor, Village of Lake Zurich, 70 East Main Street, Lake Zurich, Illinois 60047 | July 18, 2001 | 170376
Will | Unincorporated Areas | July 24, 2001, July 31, 2001, The Chicago Sun-Times | Mr. Joseph L. Mikan, County Executive, Will County, 302 North Chicago Street, Joliet, Illinois 60432 | October 30, 2001 | 170695
Indiana: Howard | Unincorporated Areas | July 20, 2001, July 27, 2001, Kokomo Tribune | Mr. John Harbaugh, President, Howard County, Board of Commissioners, 230 North Main, Kokomo, Indiana 46901 | June 27, 2001 | 180414
Iowa: Black Hawk | City of Cedar Falls | July 24, 2001, July 31, 2001, Waterloo Cedar Falls Courier | The Honorable Jon Crews, Mayor, City of Cedar Falls, 220 Clay Street, Cedar Falls, Iowa 50613 | June 22, 2001 | 190017
Missouri: Marion | Unincorporated Areas | August 1, 2001, August 8, 2001, Palmyra Spectator | Mr. Lyndon Bode, Presiding Commissioner, Marion County, 100 South Main Street, Palmyra, Missouri 63461 | July 9, 2001 | 290222
Nebraska: Lancaster | City of Lincoln | April 19, 2001, April 26, 2001, Lincoln Journal Star | The Honorable Don Wesely, Mayor, City of Lincoln, 555 South 10th Street, Room 208, Lincoln, Nebraska 68508 | March 13, 2001 | 315273
Ohio: Summit | City of Twinsburg | August 9, 2001, August 16, 2001, The Twinsburg Bulletin | The Honorable Katherine Procop, Mayor, City of Twinsburg, 10075 Ravenna Road, Twinsburg, Ohio 44087 | November 15, 2001 | 390534
Oklahoma: Jefferson | City of Waurika | July 5, 2001, July 12, 2001, Waurika News-Democrat | The Honorable Biff Eck, Mayor, City of Waurika, 122 South Main, Waurika, Oklahoma 73573 | October 11, 2001 | 400076
Texas:
Tarrant | City of Haltom City | July 24, 2001, July 31, 2001, Fort Worth Star-Telegram | Mr. Joel A. Guerrero, Floodplain Administrator, City of Haltom City, 5024 Broadway Avenue, Haltom City, Texas 76117 | October 30, 2001 | 480599
Harris | Unincorporated Areas | August 16, 2001, August 23, 2001, Houston Chronicle | The Honorable Robert Eckels, Harris County Judge, 1001 Preston Street, Suite 911, Houston, Texas 77002 | November 22, 2001 | 480287
Harris | Unincorporated Areas | August 21, 2001, August 28, 2001, Houston Chronicle | The Honorable Robert Eckels, Harris County Judge, 1001 Preston Street, Suite 911, Houston, Texas 77002 | November 27, 2001 | 480287
Harris | City of Houston | August 21, 2001, August 28, 2001, Houston Chronicle | The Honorable Lee P. Brown, Mayor, City of Houston, P. O. Box 1562, Houston, Texas 77251-1562 | November 27, 2001 | 480296
Denton | Town of Little Elm | July 12, 2001, July 19, 2001, Deonton Record-Chronicle | The Honorable Jim Pelley, Mayor, Town of Little Elm, P. O. Box 129, Little Elm, Texas 75068 | October 18, 2001 | 481152
Tarrant | City of North Richland Hills | July 24, 2001, July 31, 2001, Fort Worth Star-Telegram | The Honorable Charles Scoma, Mayor, City of North Richland Hills, P. O. Box 820609, North Richland Hills, Texas 76182 | October 30, 2001 | 480607
Tarrant | City of North Richland Hills | August 23, 2001, August 30, 2001, Fort Worth Star-Telegram | The Honorable Charles Scoma, Mayor, City of North Richland Hills, P. O. Box 820609, North Richland Hills, Texas 76182 | July 31, 2001 | 480607
Tarrant | City of Richland Hills | July 24, 2001, July 31, 2001, Fort Worth Star-Telegram | Mr. John W. Cherry, P.E., Director, Dept. of Public Works, City of Richland Hills, 6700 Rena Drive, Richland Hills, Texas 76118 | October 30, 2001 | 480608
Tarrant | City of Southlake | August 3, 2001, August 10, 2001, Fort Worth Star-Telegram | The Honorable Rick Stacy, Mayor, City of Southlake, 1400 Main Street, Suite 270, Southlake, Texas 76092 | November 9, 2001 | 480612
Harris | City of Tomball | July 25, 2001, August 1, 2001, Tomball Magnolia Tribune | The Honorable Hap Harrington, Mayor, City of Tomball, 401 West Market Street, Tomball, Texas 77375-4645 | October 31, 2001 | 480315

(Catalog of Federal Domestic Assistance No. 83.100, “Flood Insurance”)
Dated: October 3, 2001.
Robert F. Shea,
Acting Administrator, Federal Insurance and Mitigation Administration.

[FR Doc. 01-26425 Filed 10-18-01; 8:45 am]

BILLING CODE 6718-04-P